DEPARTMENT OF AGRICULTURE

Animal and Plant Health Inspection Service

[Docket No. APHIS-2010-0040]

Florigene Pty., Ltd.; Availability of Petition and Environmental Assessment for Determination of Nonregulated Status for Altered Color Roses

AGENCY: Animal and Plant Health Inspection Service, USDA.

ACTION: Notice.

SUMMARY: We are advising the public that the Animal and Plant Health Inspection Service has received a petition from Florigene Pty., Ltd., seeking a determination of nonregulated status for roses designated as IFD-524Ø1-4 and IFD-529Ø1-9, which have been genetically engineered to produce novel flower color. The petition has been submitted in accordance with our regulations concerning the introduction of certain genetically engineered organisms and products. In accordance with those regulations, we are soliciting comments on whether these genetically engineered roses are likely to pose a plant pest risk. We are also making available for public comment an environmental assessment for the proposed determination of nonregulated status.

DATES: We will consider all comments that we receive on or before June 13, 2011.

ADDRESSES: You may submit comments by either of the following methods:

• Federal eRulemaking Portal: Go to http://www.regulations.gov/fdmspublic/component/main?main=DocketDetail&d=APHIS-2010-0040 to submit or view comments and to view supporting and related materials available electronically.

• Postal Mail/Commercial Delivery: Please send one copy of your comment to Docket No. APHIS-2010-0040, Regulatory Analysis and Development, PPD, APHIS, Station 3A-03.8, 4700 River Road Unit 118, Riverdale, MD 20737-1238. Please state that your comment refers to Docket No. APHIS-2010-0040.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Availability of Documents: The petition, draft environmental assessment, and plant pest risk assessment are on available on the Regulations.gov Web site (see link above) or on the APHIS Web site at http://www.aphis.usda.gov/brs/aphisdocs/08_31501p.pdf, http://www.aphis.usda.gov/brs/aphisdocs/08_31501p_ea.pdf, and http://www.aphis.usda.gov/brs/aphisdocs/08_31501p_pra.pdf.

FOR FURTHER INFORMATION CONTACT: Mr. Evan Chestnut, Policy Analyst, Biotechnology Regulatory Services, APHIS, 4700 River Road Unit 147, Riverdale, MD 20737-1236; (301) 734-0942, e-mail: evan.a.chestnut@aphis.usda.gov. To obtain copies of the petition, draft environmental assessment, or plant pest risk assessment, contact Ms. Cindy Eck at (301) 734-0667, e-mail: cynthia.a.eck@aphis.usda.gov.

SUPPLEMENTARY INFORMATION:

Background

The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.”

The regulations in § 340.6(a) provide that any person may submit a petition to the Animal and Plant Health Inspection Service (APHIS) seeking a determination that an article should not be regulated under 7 CFR part 340. Paragraphs (b) and (c) of § 340.6 describe the form that a petition for a determination of nonregulated status must take and the information that must be included in the petition.

APHIS has received a petition (APHIS Petition Number 08-315-01p) from Florigene Pty., Ltd. of Victoria, Australia, seeking a determination of nonregulated status for two hybrid rose lines designated as IFD-524Ø1-4 and IFD-529Ø1-9, which have been genetically engineered to produce novel flower color, stating that these rose lines are unlikely to pose a plant pest risk and, therefore, should not be regulated articles under APHIS' regulations in 7 CFR part 340.

As described in the petition, the addition of genes from pansy and wishbone flower produces blue pigments in the rose lines, altering the flower color. Hybrid rose lines IFD-524Ø1-4 and IFD-529Ø1-9 are currently regulated under 7 CFR part 340. Importation and testing of hybrid rose lines IFD-524Ø1-4 and IFD-529Ø1-9 have been conducted under permits issued or notifications acknowledged by APHIS.

Trials conducted under APHIS oversight allowed for evaluation in a typical horticultural setting while imposing measures to minimize the risk of persistence in the environment after completion of the test. Data were gathered on multiple parameters and used by the applicant to evaluate phenotypic characteristics and product performance. These data are used by APHIS to determine if the new variety poses a plant pest risk. Florigene has petitioned APHIS to make a determination that hybrid rose lines IFD-524-1-4 and IFD-529-1-9 shall no longer be considered regulated articles under 7 CFR part 340.

In section 403 of the Plant Protection Act (7 U.S.C. 7701 et seq.), “plant pest” is defined as any living stage of any of the following that can directly or indirectly injure, cause damage to, or cause disease in any plant or plant product: A protozoan, a nonhuman animal, a parasitic plant, a bacterium, a fungus, a virus or viroid, an infectious agent or other pathogen, or any article similar to or allied with any of the foregoing. APHIS has prepared a plant pest risk assessment to determine if hybrid rose lines IFD-524Ø1-4 and IFD-529Ø1-9 are unlikely to pose a plant pest risk.

APHIS has also prepared a draft environmental assessment (EA) in which it presents two alternatives based on its analyses of data submitted by Florigene, a review of other scientific data, and field tests conducted under APHIS oversight. APHIS is considering the following alternatives: (1) Take no action, i.e., APHIS would not change the regulatory status of hybrid rose lines IFD-524Ø1-4 and IFD-529Ø1-9 and they would continue to be regulated articles, or (2) grant nonregulated status to hybrid rose lines IFD-524Ø1-4 and IFD-529Ø1-9 in whole.

The draft EA has been prepared to provide the APHIS decisionmaker with a review and analysis of any potential environmental impacts associated with the proposed determination of nonregulated status for hybrid rose lines IFD-524Ø1-4 and IFD-529Ø1-9. The draft EA was prepared in accordance with (1) the National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

In accordance with § 340.6(d) of the regulations, we are publishing this notice to inform the public that APHIS will accept written comments regarding the petition for a determination of nonregulated status from interested or affected persons for a period of 60 days from the date of this notice. We are also soliciting written comments from interested or affected persons on the draft EA prepared to examine any potential environmental impacts of the proposed determination for the deregulation of the subject hybrid rose lines, and the plant pest risk assessment. The petition, draft EA, and plant pest risk assessment are available for public review, and copies of the petition, draft EA, and plant pest risk assessment are available as indicated under ADDRESSES and FOR FURTHER INFORMATION CONTACT above.

After the comment period closes, APHIS will review all written comments received during the comment period and any other relevant information. All comments received regarding the petition, draft EA, and plant pest risk assessment will be available for public review. After reviewing and evaluating the comments on the petition, the draft EA, plant pest risk assessment, and other data, APHIS will furnish a response to the petitioner, either approving or denying the petition. APHIS will then publish a notice in the Federal Register announcing the regulatory status of hybrid rose lines IFD-524Ø1-4 and IFD-529Ø1-9 and the availability of APHIS' written environmental decision and regulatory determination.

Authority: 7 U.S.C. 7701-7772 and 7781-7786; 31 U.S.C. 9701; 7 CFR 2.22, 2.80, and 371.3.

Done in Washington, DC, this 7th day of April 2011.
Gregory L. Parham,
Acting Administrator, Animal and Plant Health Inspection Service.

[FR Doc. 2011-8775 Filed 4-12-11; 8:45 am]

BILLING CODE 3410-34-P